DEPARTMENT OF HEALTH AND HUMAN SERVICES

Administration for Children and Families

[CFDA Number: 93.592]

Announcing the Award of a Single-Source Program Expansion Supplement Grant to the Asian and Pacific Islander Institute on Domestic Violence (APIIDV) in San Francisco, CA

AGENCY: Family and Youth Services Bureau, ACYF, ACF, HHS.

ACTION: The Family and Youth Services Bureau announces the award of a single-source program expansion supplement grant under the Family Violence Prevention and Services Act (FVPSA) Technical Assistance Project to the Asian and Pacific Islander Institute on Domestic Violence (APIIDV) to support training and technical assistance activities.

SUMMARY: The Administration for Children and Families (ACF), Administration on Children, Youth and Families (ACYF), Family and Youth Services Bureau (FYSB), Division of Family Violence and Prevention Services (DFVPS) announces the award of $150,000 as a single-source program expansion supplement to APIIDV in San Francisco, CA. The grantee, funded under the FVPSA program, is a technical assistance provider that assists FVPSA service providers to build the capacity of domestic violence programs to serve victims of domestic violence from Asian and Pacific Islander communities.

DATES: The period of support is September 30, 2014 through September 29, 2015.

FOR FURTHER INFORMATION CONTACT: Shawndell Dawson, Senior Program Specialist, Family Violence Prevention and Services Program, 1250 Maryland Avenue SW., Suite 8219, Washington, DC 20024. Telephone: 202-205-1476; Email: Shawndell.Dawson@acf.hhs.gov.

SUPPLEMENTARY INFORMATION: Supplemental award funds will support the grantee in providing training and technical assistance to domestic violence service providers.

This award will expand the scope of APIIDV's technical assistance for domestic violence programs to include additional activities around the issue of trafficking, such as:

• Survivor Centered Trauma-Informed Trafficking Services webinar series and resources;

• Grantee listening sessions regarding needs, challenges and barriers related to offering trafficking services;

• Documentation of current promising practices for serving survivors of trafficking within domestic violence programs (i.e. program profiles, a case study, online page); and

• Partnership considerations and recommendations for domestic violence programs;

In addition, the grantee will enhance training and technical assistance around the issue of language access planning for domestic violence programs, such as:

• State Coalitions Language Access Planning Training of Trainers with twenty states;

• Providing resources for the FVPSA state administrators;

• Targeted technical assistance to the twenty states that complete the training of trainers;

• Language Access Planning for Domestic Violence Services webinar series in partnership with Casa de Esperanza (4 webinars); and

• Documentation of the twenty states implementing enhanced language access planning (i.e., program profiles, a case study, short report).

Statutory Authority: Section 310 of the Family Violence Prevention and Services Act, as amended by Section 201 of the CAPTA Reauthorization Act of 2010, Pub. L. 111-320.

Christopher Beach,
Senior Grants Policy Specialist, Division of Grants Policy, Office of Administration.

[FR Doc. 2014-27202 Filed 11-17-14; 8:45 am]

BILLING CODE 4184-32-P